SECURITIES AND EXCHANGE COMMISSION

[File No. 500-1]

In the Matter of American Sports Development Group, Inc., Cybernet Internet Services International, Inc., Cyper Media, Inc., Frisby Technologies, Inc., Graphco Holdings Corp., Investors Insurance Group, Inc., ITC Learning Corp., and Speizman Industries, Inc.; Order of Suspension of Trading

December 17, 2009.

It appears to the Securities and Exchange Commission that there is a lack of current and accurate information concerning the securities of American Sports Development Group, Inc. because it has not filed any periodic reports since the period ended December 31, 2003.

It appears to the Securities and Exchange Commission that there is a lack of current and accurate information concerning the securities of Cybernet Internet Services International, Inc. because it has not filed any periodic reports since the period ended September 30, 2003.

It appears to the Securities and Exchange Commission that there is a lack of current and accurate information concerning the securities of Cyper Media, Inc. because it has not filed any periodic reports since the period ended March 31, 2004.

It appears to the Securities and Exchange Commission that there is a lack of current and accurate information concerning the securities of Frisby Technologies, Inc. because it has not filed any periodic reports since the period ended September 30, 2002.

It appears to the Securities and Exchange Commission that there is a lack of current and accurate information concerning the securities of Graphco Holdings Corp. because it has not filed any periodic reports since the period ended September 30, 2003.

It appears to the Securities and Exchange Commission that there is a lack of current and accurate information concerning the securities of Investors Insurance Group, Inc. because it has not filed any periodic reports since the period ended September 30, 2003.

It appears to the Securities and Exchange Commission that there is a lack of current and accurate information concerning the securities of ITC Learning Corp. because it has not filed any periodic reports since the period ended March 31, 2001.

It appears to the Securities and Exchange Commission that there is a lack of current and accurate information concerning the securities of Speizman Industries, Inc. because it has not filed any periodic reports since the period ended December 27, 2003.

The Commission is of the opinion that the public interest and the protection of investors require a suspension of trading in the securities of the above-listed companies. Therefore, it is ordered, pursuant to Section 12(k) of the Securities Exchange Act of 1934, that trading in the securities of the above-listed companies is suspended for the period from 9:30 a.m. EST on December 17, 2009, through 11:59 p.m. EST on December 31, 2009.

By the Commission.
Jill M. Peterson,
Assistant Secretary.

[FR Doc. E9-30359 Filed 12-17-09; 11:15 am]

BILLING CODE 8011-01-P